DEPARTMENT OF THE INTERIOR

Minerals Management Service

Agency Information Collection Activities: Submitted for Office of Management and Budget (OMB) Review; Comment Request

AGENCY: Minerals Management Service (MMS), Interior.

ACTION: Notice of extension and revision of a currently approved information collection (OMB Control Number 1010-0114).

SUMMARY: To comply with the Paperwork Reduction Act of 1995 (PRA), we are submitting to OMB for review and approval an information collection request (ICR) for the paperwork requirements in the regulations under 30 CFR part 250, subpart A, General, and associated forms and Notices to Lessees and Operators (NTLs).

DATES: Submit written comments by July 10, 2002.

ADDRESSES: You may submit comments directly to the Office of Information and Regulatory Affairs, OMB, Attention: Desk Officer for the Department of the Interior (1010-0114), 725 17th Street, NW, Washington, DC 20503. Mail or hand-carry a copy of your comments to the Department of the Interior; Minerals Management Service; Attention: Rules Processing Team; Mail Stop 4024; 381 Elden Street; Herndon, Virginia 20170-4817.

FOR FURTHER INFORMATION CONTACT: Alexis London, Rules Processing Team, telephone (703) 787-1600. You may also contact Alexis London to obtain a copy at no cost of the forms and regulations that require the subject collection of information.

SUPPLEMENTARY INFORMATION: Title: 30 CFR part 250, subpart A, General.

Forms: MMS-132, Hurricane and Tropical Storm Evacuation and Production Curtailment Statistics, Gulf of Mexico Region (GOMR); MMS-1132, Designation of Operator; MMS-1832, Notification of Incidents of Noncompliance (INCs).

OMB Control Number: 1010-0114.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner which is consistent with the need to make such resources available to meet the Nation's energy needs as rapidly as possible; to balance orderly energy resource development with protection of human, marine, and coastal environments; to ensure the public a fair and equitable return on the resources of the OCS; and to preserve and maintain free enterprise competition. Section 1332(6) requires that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

Federal policy and statutes require us to recover the cost of services that confer special benefits to identifiable non-Federal recipients. Section 250.165 requires a State lessee to pay a fee when applying for a right-of-use and easement on the OCS. The Independent Offices Appropriation Act (31 U.S.C. 9701), OMB Circular A-25, and the Omnibus Appropriations Bill (Pub. L. 104-133, 110 Stat. 1321, April 26, 1996) authorize agencies to collect these fees to reimburse us for the cost to process applications or assessments. This fee is the same as that required for filing pipeline right-of-way applications as specified in § 250.1010(a).

This notice concerns the reporting and recordkeeping elements of the 30 CFR part 250, subpart A, General regulations and related forms and NTLs that clarify and provide additional guidance on some aspects of the regulations. Responses are mandatory. No questions of a “sensitive” nature are asked. MMS will protect proprietary information according to 30 CFR 250.196 (Data and information to be made available to the public), 30 CFR part 252 (OCS Oil and Gas Information Program), and the Freedom of Information Act (5 U.S.C. 552) and its implementing regulations (43 CFR part 2). MMS OCS Regions use the information collected under subpart A to ensure that operations on the OCS are carried out in a safe and pollution-free manner, do not interfere with the rights of other users on the OCS, and balance the development of OCS resources with the protection of the environment.

Frequency: The frequency is “on occasion” for most of the requirements in subpart A. The form MMS-132 is submitted daily during the period of emergency.

Estimated Number and Description of Respondents: Approximately one State and 130 Federal OCS oil and gas or sulphur lessees.

Estimated Reporting and Recordkeeping “Hour” Burden: The estimated annual “hour” burden for this information collection is a total of 22,467 burden hours. The following chart details the individual components and estimated hour burdens. In calculating the burdens, we assumed that respondents perform certain requirements in the normal course of their activities. We consider these to be usual and customary and took that into account in estimating the burdens.

Citation 30 CFR part 250 subpart A and related forms/NTLs | Reporting or recordkeeping requirement | Hour burden | Average annual number | Annual burden hours
104; Form MMS-1832 | Appeal orders or decisions; appeal INCs—burden included with 30 CFR 290 (1010-0121) |  |  | 0
109(a);110 | Submit welding, burning, and hot tapping plans | 2 | 170 plans | 340
115; 116 | Request determination of well producibility; submit data & responses information; notify MMS of test | 3 | 125 | 375
118; 119; 121; 124 | Apply for injection or subsurface storage of gas | 10 | 10 applications | 100
130-133; Form MMS-1832 | Submit “green” response copy of form MMS-1832 indicating date violations (INCs) corrected | 2 | 1,500 forms (4245 actual INCs) | 3,000
| Request reconsideration from issuance of an INC | ½ | 215 requests | 108
| Request waiver of 14-day response time. | ½ | 425 waivers | 213
| Notify MMS before returning to operations if shut-in | ¼ | 2,190 notices | 548
133 | Request reimbursement for food, quarters, and transportation provided to MMS representatives (OCS Lands Act specifies reimbursement; no requests received in many years; minimal burden) | 1 | request | 1
135 MMS internal process | Submit Performance Improvement Plan for enforcement actions | 40 | 8 plans | 320
140 | Request various oral approvals not specifically covered elsewhere in regulatory requirements | ¼ | 200 requests | 50
141 | Request approval to use new or alternative procedures, including BAST not specifically covered elsewhere in regulatory requirements | 20 | 15 requests | 300
142 | Request approval of departure from operating requirements not specifically covered elsewhere in regulatory requirements | 2 | 50 requests | 100
143; 144; 145; Form MMS-1123 | Submit designation of operator & report change of address or notice of termination; submit designation of local agent | ¼ | 1,280 forms | 320
150; 151; 152; 154(a) | Name and identify facilities, etc., with signs | 2 | 155 new or replacement signs | 310
150; 154(b) | Identify wells with paint or signs | 1 | 1,415 new wells | 1,415
160; 161 | OCS lessees: Apply for new or modified right of use and easement to construct and maintain off-lease platforms, artificial islands, and installations and other devices | 5 | 30 applications | 150
165 | State lessees: Apply for new or modified right-of-use and easement to construct and maintain off-lease platforms, artificial islands, and installations and other devices | 5 | 1 application | 5
166 | State lessees: Furnish surety bond—burden included with 30 CFR 256 (1010-0006) |  |  | 0
168; 170; 171; 172; 174; 175; 177; 180(b), (d) | Request suspension of operations or production; submit schedule of work hours leading to commencement | 10 | 250 requests | 2,500
| Submit progress reports on suspension of operations or production as condition of approval | 2 | 1,070 reports | 2,140
177(a) | Conduct site-specific study; submit results. No instances requiring this study in several years—could be necessary if a situation occurred such as severe damage to a platform or structure caused by a hurricane or a vessel collision | 80 | 1 study/report | 80
177(b), (c), (d); 182; 183, 185; 194 | Various references to submitting new, revised, or modified exploration plan, development and production plan, or development operations coordination document, and related surveys and reports—burden included with 30 CFR 250, subpart B (1010-0049). |  |  | 0
180(a), (f), (g), (h), (i), (j) | Notify and submit report on various leaseholding operations and lease production activities | ½ | 1,500 reports | 750
180(a), (b), (c) | When requested, submit production data to demonstrate production in paying quantities to maintain lease beyond primary term | 6 | 20 submissions | 120
180(e) | Request more than 180 days to resume operations | 3 | 5 requests | 15
181(d); 182(b), 183(b)(2) | Request termination of suspension and cancellation of lease (no requests in recent years for termination/cancellation of a lease; minimal burden) | 20 | 2 requests | 40
184 | Request compensation for lease cancellation mandated by the OCS Lands Act (no qualified lease cancellations in many years; minimal burden compared to benefit) | 50 | 1 request | 50
190 | Submit requests, applications, and notices under various regulations—burden included with applicable requirement |  |  | 0
191 | Report accidents, deaths, serious injuries, fires, explosions and blowouts | 7 | 135 reports | 945
191(a) | Report spills of oil—burden included with 30 CFR 254 (1010-0091). |  |  | 0
192; Form MMS-132 | Daily report of evacuation statistics for natural occurrence/hurricane (form MMS-132 in the GOMR) when circumstances warrant | 1 | 620 reports or forms | 620
193 | Report apparent violations or non-compliance | 1½ | 2 reports | 3
194 NTL exception requests | Request departures from conducting archaeological resources surveys and/or submitting reports in GOMR | 1 | 95 requests | 95
194(c) | Report archaeological discoveries (only one instance in many years; minimal burden) | 1 | 1 report | 1
195 | Submit data/information for post-lease geological and geophysical activity and request reimbursement—burden included with 30 CFR 251 (1010-0048). |  |  | 0
Subtotal—Reporting | 11,492 | 15,014
108(a) | Retain records of crane inspection, testing, and maintenance for 2 years; crane operator qualifications 4 years | 2 | 2,540 recordkeepers | 5,080
109(b) | Retain welding, burning, and hot tapping plan and approval for the life of the facility | ½ hour | 4,225 operations | 2,113
132(b)(3) | Make available all records related to inspections not specifically covered elsewhere in regulatory requirements | 1 | 130 lessees/operators | 260
Subtotal—Recordkeeping | 6,895 | 7,453
Total Hour Burden | 18,387 | 22,467

Estimated Reporting and Recordkeeping “Non-Hour Cost” Burden: The application filing fee required in § 250.165 is the only paperwork cost burden identified for the subpart A regulations. This filing fee is currently set at $2,350.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on November 26, 2001, we published a Federal Register notice (66 FR 59024) announcing that we would submit this ICR to OMB for approval. The notice provided the required 60-day comment period. In addition, § 250.199 provides the OMB control numbers for the information collection requirements imposed by the 30 CFR part 250 regulations and forms. That regulation also informs the public that they may comment at any time on these collections of information and provides the address to which they should send comments. We have received no comments in response to these efforts. The required PRA public disclosure and comment statements are displayed on forms MMS-132, MMS-1123, and MMS-1832.

If you wish to comment in response to this notice, send your comments directly to the offices listed under the ADDRESSES section of this notice. The OMB has up to 60 days to approve or disapprove the information collection but may respond after 30 days. Therefore, to ensure maximum consideration, OMB should receive public comments by July 10, 2002.

Public Comment Policy: Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: April 25, 2002.
E.P. Danenberger
Chief, Engineering and Operations Division.

[FR Doc. 02-14476 Filed 6-7-02; 8:45 am]

BILLING CODE 4310-MR-P